DEPARTMENT OF THE INTERIOR

Advisory Committee on Water Information (ACWI); Meeting

AGENCY: United States Geological Survey, Interior Department.

ACTION: Notice of an open meeting of the Advisory Committee on Water Information (ACWI).

SUMMARY: Notice is hereby given of a meeting of the ACWI. This meeting is to discuss broad policy-related topics relating to national water initiatives, and the development and dissemination of water information, through reports from ACWI subgroups. The agenda will include results of the Department of Agriculture's Conservation Effects Assessment Program for the Upper Mississippi; an update by the Subcommittee on Ground Water regarding their National Framework for Ground Water Monitoring; a briefing on the Reservoir Sedimentation Database; highlights from the 7th National Monitoring Conference, which was held earlier this year in Denver, Colorado; status of the National Monitoring Network for U.S. Coastal Waters and their Tributaries; an update on Federal agency interactions with the regional water quality monitoring organizations of the Integrated Ocean Observing Systems; and updates on recent activities of the Methods and Data Comparability Board.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will convene at 9 a.m. on July 13, 2010, and will adjourn at 5:30 p.m. on July 14, 2010.

ADDRESSES: The meeting will be held at the Crowne Plaza Dulles Airport, located at 2200 Centreville Road, Herndon, Virginia 20171.

FOR FURTHER INFORMATION CONTACT: Ms. Wendy E. Norton, ACWI Executive Secretary and Chief, Water Information Coordination Program, U.S. Geological Survey, 12201 Sunrise Valley Drive, MS 417, Reston, VA 20192. Telephone: 703-648-6810; Fax: 703-648-5644; e-mail: wenorton@usgs.gov.

SUPPLEMENTARY INFORMATION: This meeting is open to the public. Up to a half hour will be set aside for public comment. Persons wishing to make a brief presentation (up to 5 minutes) are asked to provide a written request with a description of the general subject to Ms. Norton at the above address no later than July 2, 2010. It is requested that 65 copies of a written statement be submitted at the time of the meeting for distribution to members of the ACWI and placement in the official file. Any member of the public may submit written information and (or) comments to Ms. Norton for distribution at the ACWI meeting.

Dated: May 31, 2010.
Katherine Lins,
Chief, Office of Water Information.

[FR Doc. 2010-14738 Filed 6-17-10; 8:45 am]

BILLING CODE 4310-AM-P